DEPARTMENT OF THE INTERIOR

Bureau of Indian Affairs

[DR.5B711.IA000815]

Indian Gaming

AGENCY: Bureau of Indian Affairs, Interior.

ACTION: Notice of Approved Tribal-State Class III Gaming Compact.

SUMMARY: This notice publishes the approval of the Tribal-State Compact for Regulation of Class III Gaming between the Cow Creek Band of Umpqua Tribe of Indians of Oregon (Tribe) and the State of Oregon (State), Amendment II.

DATES: Effective: April 8, 2015.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. As required by 25 CFR 293.4, all compacts and amendments, including technical amendments, are subject to review and approval by the Secretary. The Tribal-State Compact for Regulation of Class III Gaming between the Cow Creek Band of Umpqua Tribe of Indians of Oregon and the State of Oregon, Amendment II, establishes criteria to deny or terminate contracts related to Class III gaming. The perpetual term of the compact remains unchanged.

Dated: April 2, 2015.
Kevin K. Washburn,
Assistant Secretary—Indian Affairs.

[FR Doc. 2015-08059 Filed 4-7-15; 8:45 am]

BILLING CODE 4337-15-P